DEPARTMENT OF COMMERCE

National Oceanic and Atmospheric Administration

[RTID 0648-XD644]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day hybrid meeting with both in-person and remote participation to consider actions affecting New England fisheries in the exclusive economic zone (EEZ).

DATES: The meeting will be held on Tuesday, Wednesday, and Thursday, January 30, January 31, and February 1, 2024, beginning at 9 a.m. each day.

ADDRESSES: The meeting will take place at The Venue at Portwalk Place, 22 Portwalk Place, Portsmouth, NH 03801; telephone (603) 422-6114; online at https://www.thevenueatportwalkplace.com. Join the webinar at https://attendee.gotowebinar.com/register/4656306835494284629.

Council address: New England Fishery Management Council, 50 Water Street, Mill 2, Newburyport, MA 01950; telephone (978) 465-0492; www.nefmc.org.

FOR FURTHER INFORMATION CONTACT: Cate O'Keefe, Executive Director, New England Fishery Management Council; telephone: (978) 465-0492, ext. 113.

SUPPLEMENTARY INFORMATION:

Agenda

Tuesday, January 30, 2024

The Council will begin this meeting in Closed Session to discuss appointments to its Scientific and Statistical Committee. At 9:30 a.m., the open session will begin with brief announcements, followed by reports on recent activities from the Council's Chair and Executive Director, the GARFO Regional Administrator, the NOAA Office of General Counsel, the Northeast Fisheries Science Center (NEFSC) Director, the Mid-Atlantic Fishery Management Council liaison, and representatives from the Atlantic States Marine Fisheries Commission (ASMFC), the U.S. Coast Guard, NOAA's Office of Law Enforcement, the U.S. Fish and Wildlife Service, and the Advisory Committee to the U.S. Section of the International Commission for the Conservation of Atlantic Tunas (ICCAT). The Council then will receive a progress report from its Risk Policy Working Group that will focus on addressing Terms of Reference 1 and 2 to revise the Council's Risk Policy. Next, the Council will receive an update from GARFO and the NOAA National Centers for Coastal Ocean Science on revised siting for the Blue Water Fisheries offshore aquaculture project in federal waters off the coast of New Hampshire.

After the lunch break, members of the public will have the opportunity to speak during an open comment period on issues that relate to Council business but are not included on the published agenda for this meeting. The Council asks the public to limit remarks to 3-5 minutes. These comments will be received both in person and through the webinar. A guide for how to publicly comment through the webinar is available on the Council website at https://s3.amazonaws.com/nefmc.org/NEFMC-meeting-remote-participation_generic.pdf. The Council then will hear from its Herring Committee, which will provide an update on Amendment 10 to the Atlantic Herring Fishery Management Plan. This is an action to minimize user conflicts in the herring fishery. The Council will review a draft scoping document and scoping meeting schedule to gather public input on the range of issues that potentially could be addressed in this amendment. To close out the day, the Council will receive a congressional update on current legislative activities. Following the adjournment of official business, the Council will host a public outreach session to foster open lines of communication among Council members, staff, industry, and all meeting attendees. This event will be held at the AC Hotel on the Lobby Level, 299 Vaughn Street, which is a four-minute walk from the Council meeting room at The Venue at Portwalk Place in Portsmouth, NH.

Wednesday, January 31, 2024

The Council will begin the second day of its meeting with a presentation on the three-year review of the Northeast Region's Standardized Bycatch Reporting Methodology. Next, the Council will receive a report on activities within the Northeast Fisheries Science Center's Fishery Monitoring and Research Division, including: (1) the status of ongoing responsibilities; (2) at-sea monitoring and observer program activities; and (3) cooperative research updates. This report will be followed by an overview of a Northeast Fisheries Science Center white paper outlining potential plans for industry-based surveys to complement federal spring and fall bottom trawl surveys on the NOAA ship Henry B. Bigelow. The Council will have an opportunity to provide input on research priorities for consideration in future industry-based survey as they relate to its own research priorities.

Following the lunch break, the Council will receive a NOAA Fisheries presentation on the Marine Recreational Information Program (MRIP), which will include an update on the status of MRIP's Fishing Effort Survey (FES). This will be followed by the Groundfish Committee report, which will cover four items as follows. (1) Recreational Measures: the Council will provide recommendations to GARFO on fishing year 2024 recreational measures for Georges Bank cod, Gulf of Maine cod, and Gulf of Maine haddock. (2) The Atlantic Cod Management Transition Plan: the Council will receive an update on transition planning. (3) Metrics for the Groundfish Amendment 23 Monitoring System Review: the Council will receive a progress report on this action. And (4) 2024 Groundfish Priorities: the Council will receive a preliminary overview of the groundfish workplan for year ahead. As the final item of business for the day, the Council will revisit fishing year 2024-2026 specifications approved in December 2023 for the small-mesh multispecies (whiting) fishery to address southern red hake rebuilding.

Thursday, February 1, 2024

The Council will lead off the third day of its meeting with a Spiny Dogfish Committee report, where it will review, discuss, and approve fishing year 2024-2026 spiny dogfish specifications. Next, the Council will receive a progress report on Monkfish Framework 15, which is part of a joint New England/Mid-Atlantic Council action to reduce monkfish/dogfish large-mesh gillnet fishery interactions with Atlantic sturgeon. Then, the Council will receive an update from its On-Demand Fishing Gear Conflict Working Group on activities to prevent or reduce potential gear conflicts between mobile, fixed, and recreational gear and on-demand (ropeless) fishing gear. This update will be followed by a presentation on the peer-reviewed 2023 Black Sea Bass Research Track Stock Assessment. The Council then will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Executive Director Cate O'Keefe (see ADDRESSES) at least 5 days prior to the meeting date.

Authority: 16 U.S.C. 1801 et seq.

Dated: January 8, 2024.
Rey Israel Marquez,
Acting Deputy Director, Office of Sustainable Fisheries, National Marine Fisheries Service.

[FR Doc. 2024-00471 Filed 1-10-24; 8:45 am]

BILLING CODE 3510-22-P